DEPARTMENT OF TRANSPORTATION

Federal Aviation Administration

14 CFR Part 39

[Docket No. FAA-2019-0320; Product Identifier 2019-NM-017-AD; Amendment 39-19725; AD 2019-17-05]

RIN 2120-AA64

Airworthiness Directives; Airbus SAS Airplanes

AGENCY: Federal Aviation Administration (FAA), Department of Transportation (DOT).

ACTION: Final rule.

SUMMARY: The FAA is adopting a new airworthiness directive (AD) for certain Airbus SAS Model A330-200 Freighter, -200, and -300 series airplanes; and certain Airbus SAS Model A340-200, -300, -500, and -600 series airplanes. This AD was prompted by a determination that certain wing slat tracks that were inadvertently indicated as eligible for installation on all Model A330 and A340 series airplanes are unable to sustain the ultimate loads relative to the weight variant of certain airplane configurations. This AD requires identifying affected parts, inspecting for and repairing cracks, and replacing affected parts with serviceable parts, as specified in a European Aviation Safety Agency (EASA) AD, which is incorporated by reference. The FAA is issuing this AD to address the unsafe condition on these products.

DATES: This AD is effective October 15, 2019.

The Director of the Federal Register approved the incorporation by reference of a certain publication listed in this AD as of October 15, 2019.

ADDRESSES: For the material incorporated by reference (IBR) in this AD, contact the EASA, at Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov by searching for and locating Docket No. FAA-2019-0320.

Examining the AD Docket

You may examine the AD docket on the internet at http://www.regulations.gov by searching for and locating Docket No. FAA-2019-0320; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 2200 South 216th St., Des Moines, WA 98198; telephone and fax: 206-231-3229.

SUPPLEMENTARY INFORMATION:

Discussion

The FAA issued a notice of proposed rulemaking (NPRM) to amend 14 CFR part 39 by adding an AD that would apply to certain Airbus SAS Model A330-200 Freighter, -200 and -300 series airplanes; and certain Airbus SAS Model A340-200, -300, -500, and -600 series airplanes. The NPRM published in the Federal Register on May 8, 2019 (84 FR 20057). The NPRM was prompted by a determination that certain wing slat tracks that were inadvertently indicated as eligible for installation on all Model A330 and A340 series airplanes are unable to sustain the ultimate loads relative to the weight variant of certain airplane configurations. The NPRM proposed to require inspecting any affected part for cracking, and replacing with a serviceable part.

The FAA is issuing this AD to address installation of affected parts, which could result in slat detachment in flight and consequent reduced control of the airplane.

The EASA, which is the Technical Agent for the Member States of the European Union, has issued EASA AD 2019-0026, dated February 4, 2019 (“EASA AD 2019-0026”) (also referred to as the Mandatory Continuing Airworthiness Information, or “the MCAI”), to correct an unsafe condition for certain Airbus SAS Model A330-200 Freighter, -200, and -300 series airplanes; and certain Airbus SAS Model A340-200, -300, -500, and -600 series airplanes. The MCAI states:

It was recently determined that, since June 2010, the affected parts were inadvertently indicated as eligible for installation on all A330 and A340 aeroplanes in the applicable Illustrated Part Catalogue (IPC), although in fact, those parts are not valid for some aeroplane configurations (weight variants), because they are unable to sustain ultimate load. Investigation demonstrated that affected parts were never delivered as spare part. However, it cannot be excluded that an affected part was removed in-service from an aeroplane and installed on another.

This condition, if not detected and corrected, could lead to slat detachment in flight, possibly resulting in reduced control of the aeroplane.

To address this potential unsafe condition, Airbus published the applicable SB [service bulletin] to provide instructions to identify affected parts, and instructions to inspect [for cracking of] those affected parts found installed.

For the reasons described above, this [EASA] AD requires a one-time detailed (DET) and special detailed inspection (SDI) of the aft lug of each affected part and replacement of each affected part. This [EASA] AD also prohibits installation of affected parts.

You may examine the MCAI in the AD docket on the internet at http://www.regulations.gov by searching for and locating Docket No. FAA-2019-0320.

Comments

The FAA gave the public the opportunity to participate in developing this final rule. The following presents the comments received on the NPRM and the FAA's response to each comment.

Request To Include Additional Exceptions to the MCAI

American Airlines (AAL) asked that an airplane records review for the affected part identification be an approved method of compliance in the proposed AD. AAL stated that its maintenance records indicate that no affected #10 slat track was installed in production, or has been installed since aircraft delivery.

The FAA agrees with the commenter's request. The FAA has added paragraph (h)(2) to this AD to allow a review of airplane maintenance records in lieu of the inspections for the part numbers of the wing slat tracks at the #10 position. Subsequent paragraphs have been redesignated accordingly.

AAL also asked that in cases where the slat track part number is not identifiable, instructions be provided in the proposed AD to specify a range for the slat track measured thickness used to identify affected parts. AAL stated that Airbus Service Bulletin A330-57-3144, dated November 12, 2018, which is referenced in EASA AD 2019-0026, specifies that if the slat track part number is not identifiable, the upper thickness of the aft lug must be measured, and if the dimension is “10.80 mm,” the part is an affected slat track and must be replaced. AAL questioned whether a slat track with a measurement other than 10.80 mm would be affected. Therefore, AAL requested that Airbus provide a specific tolerance range that would require further inspection and ultimate replacement. AAL stated that Airbus provided a range of between 10.763 mm and 11.275 mm for the part to be an affected slat track, which will be added to the next revision of the referenced service bulletin.

The FAA agrees with the commenter's request for the reasons provided. Paragraph (h)(3) has been added to this AD to specify the measured dimension range of 10.763 mm through 11.275 mm inclusive for an affected part. Subsequent paragraphs have been redesignated accordingly.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA has also determined that these changes will not increase the economic burden on any operator or increase the scope of this final rule.

Related IBR Material Under 1 CFR Part 51

EASA AD 2019-0026 describes procedures for one-time detailed and special detailed (high frequency eddy current) inspections for cracking of the aft lug of each affected wing slat track (including an inspection to first determine if an affected slat track is installed), and replacement of any affected part with a serviceable part. This material is reasonably available because the interested parties have access to it through their normal course of business or by the means identified in the ADDRESSES section.

Costs of Compliance

The FAA estimates that this AD affects 104 airplanes of U.S. registry. The FAA estimates the following costs to comply with this AD:

Estimated Costs for Required Actions
Labor cost | Parts cost | Cost per product | Cost on U.S. operators
7 work-hours × $85 per hour = $595 | $0 | $595 | $61,880

The FAA estimates the following costs to do any necessary on-condition action that would be required based on the results of any required actions. The FAA has no way of determining the number of aircraft that might need this on-condition action:

Estimated Costs of On-Condition Action
Labor cost | Parts cost | Cost per product
8 work-hours × $85 per hour = $680 | $0 | $680

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-17-05 Airbus SAS: Amendment 39-19725; Docket No. FAA-2019-0320; Product Identifier 2019-NM-017-AD.

(a) Effective Date

This AD is effective October 15, 2019.

(b) Affected ADs

None.

(c) Applicability

This AD applies to the airplanes identified in paragraphs (c)(1) through (6) of this AD, certificated in any category, as identified in European Aviation Safety Agency (EASA) AD 2019-0026, dated February 4, 2019 (“EASA AD 2019-0026”).

(1) Airbus SAS Model A330-223F and -243F airplanes.

(2) Airbus SAS Model A330-201, -202, -203, -223, and -243 airplanes.

(3) Airbus SAS Model A330-301, -302, -303, -321, -322, -323, -341, -342, and -343 airplanes.

(4) Airbus SAS Model A340-211, -212, and -213 airplanes.

(5) Airbus SAS Model A340-311, -312, and -313 airplanes.

(6) Airbus SAS Model A340-541 and -642 airplanes.

(d) Subject

Air Transport Association (ATA) of America Code 57, Wings.

(e) Reason

This AD was prompted by a determination that certain wing slat tracks that had been inadvertently indicated as eligible for installation on all Model A330 and A340 series airplanes are unable to sustain the ultimate loads relative to the weight variant of certain airplane configurations. The FAA is issuing this AD to address installation of affected parts, which could result in slat detachment in flight and consequent reduced control of the airplane.

(f) Compliance

Comply with this AD within the compliance times specified, unless already done.

(g) Requirements

Except as specified in paragraph (h) of this AD: Comply with all required actions and compliance times specified in, and in accordance with, EASA AD 2019-0026.

(h) Exceptions to EASA AD 2019-0026

(1) For purposes of determining compliance with the requirements of this AD: Where EASA AD 2019-0026 refers to its effective date, this AD requires using the effective date of this AD.

(2) Where EASA AD 2019-0026 requires inspecting to determine the part number of the wing slat tracks at the #10 position, this AD allows a review of airplane maintenance records in lieu of the inspection if the part number can be conclusively determined from that review.

(3) EASA AD 2019-0026 refers to Airbus Service Bulletin A330-57-3144, dated November 12, 2018, which specifies that if the slat track part number is not identifiable, the upper thickness of the aft lug must be measured, and if the dimension is 10.80 millimeters (mm), it is an affected part and must be replaced. For this AD, the affected part dimensions range from 10.763 mm through 11.275 mm inclusive.

(4) The “Remarks” section of EASA AD 2019-0026 does not apply to this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0026 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Vladimir Ulyanov, Aerospace Engineer, International Section, Transport Standards Branch, FAA, 2200 South 216th St., Des Moines, WA 98198; telephone and fax: 206-231-3229.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2019-0026, dated February 4, 2019.

(ii) [Reserved]

(3) For EASA AD 2019-0026, contact the EASA, Konrad-Adenauer-Ufer 3, 50668 Cologne, Germany; telephone +49 221 89990 6017; email ADs@easa.europa.eu; internet www.easa.europa.eu. You may find this EASA AD on the EASA website at https://ad.easa.europa.eu.

(4) You may view this EASA AD at the FAA, Transport Standards Branch, 2200 South 216th St., Des Moines, WA. For information on the availability of this material at the FAA, call 206-231-3195. EASA AD 2019-0026 may be found in the AD docket on the internet at http://www.regulations.gov by searching for and locating Docket No. FAA-2019-0320.

(5) You may view this material that is incorporated by reference at the National Archives and Records Administration (NARA). For information on the availability of this material at NARA, call 202-741-6030, or go to: http://www.archives.gov/federal-register/cfr/ibr-locations.html.

Issued in Des Moines, Washington, on August 22, 2019.
Suzanne Masterson,
Acting Director, System Oversight Division, Aircraft Certification Service.

[FR Doc. 2019-19442 Filed 9-9-19; 8:45 am]

BILLING CODE 4910-13-P